DEPARTMENT OF EDUCATION

Office of Special Education and Rehabilitative Services; Overview Information, Special Education—Technology and Media Services for Individuals With Disabilities—National Instructional Materials Accessibility Standard; Notice Inviting Applications for New Awards for Fiscal Year (FY) 2004

Catalog of Federal Domestic Assistance (CFDA) Number: 84.327P.

DATES: Applications Available: August 10, 2004.

Deadline for Transmittal of Applications: September 9, 2004.

Deadline for Intergovernmental Review: September 14, 2004.

Eligible Applicants: State educational agencies (SEAs); local educational agencies (LEAs); institutions of higher education (IHEs); other public agencies; nonprofit private organizations; outlying areas; freely associated States; Indian tribes or tribal organizations; and for-profit organizations.

Estimated Available Funds: $650,000.

Estimated Average Size of Awards: Development: $400,000; Technical assistance and dissemination: $250,000.

Maximum Award: Development: $400,000; Technical assistance and dissemination: $250,000. We will reject any application that proposes a budget exceeding the maximum award for a single budget period of 12 months. The Assistant Secretary for Special Education and Rehabilitative Services may change the maximum amount through a notice published in the Federal Register.

Estimated Number of Awards: 2.

Note: The Department is not bound by any estimates in this notice.

Project Period: Up to 60 months.

Full Text of Announcement

I. Funding Opportunity Description

Purpose of Program: The purpose of this program is to: (1) Improve results for children with disabilities by promoting the development, demonstration, and use of technology; (2) support educational media activities designed to be of educational value to children with disabilities; (3) provide support for some captioning and video description; and (4) provide cultural experiences through appropriate nonprofit organizations.

Priority: In accordance with 34 CFR 75.105(b)(2)(iv), this priority is from allowable activities specified in the statute (see sections 661(e)(2) and 687 of the Individuals with Disabilities Education Act, as amended (IDEA)).

Absolute Priority: For FY 2004 this priority is an absolute priority. Under 34 CFR 75.105(c)(3), we consider only applications that meet this priority.

This priority is:

Technology and Media Services for Individuals With Disabilities—National Instructional Materials Accessibility Standard:

Background: The No Child Left Behind Act of 2001 (NCLB) requires that all students, including those with disabilities, participate in State assessments. This requirement underscores the critical importance of IDEA requirements related to access, participation, and progress in the general curriculum. Specifically, the regulations implementing IDEA state that one of the purposes of “specially-designed instruction” is to adapt the content, methodology, or delivery of instruction in order “to ensure access of the child to the general curriculum, so that he or she can meet the educational standards within the jurisdiction of the public agency that apply to all children.” 34 CFR Part 300.26(b)(3)(ii).

Currently, both special and regular educators face challenges in providing students with disabilities access to the general curriculum, especially with regard to rigorous academic content. Research indicates that the use of accessible materials substantially reduces learning barriers and demonstrates the benefits of using accessible materials in the classroom (Barker & Torgesen, 1995; Bottge, 1999; Dalton et al, 2001; Erdner, Guy & Bush, 1998; MacArthur & Haynes, 1995; Wise, Ring, & Olson, 1999). Urgent and critical needs exist for improving access to accessible instructional resources that are available in a timely manner for use in all classrooms.

To help address these critical needs, the National File Format (NFF) Technical Panel, representing educators, publishers, technology specialists, and advocacy groups, was established. The NFF Technical Panel recently developed, with consensus, a common standard for digital files that can be used to produce accurate and reliable alternate formats for educational materials from the same source file. This standard is known as the National Instructional Materials Accessibility Standard (NIMAS, version 1.0) and should help improve the timely access to accessible materials for those students with blindness, low vision, and print disabilities. The NIMAS is available at http://www.cast.org/NFF/NIMAS/

Priority: The Secretary establishes an absolute priority, which supports cooperative agreements for two centers. The NIMAS Development Center must provide national leadership in furthering the development and maintenance of the NIMAS. The NIMAS Technical Assistance Center must provide assistance to States on the availability of NIMAS and how NIMAS can be used to improve the capacity of States to provide accessible instructional materials to students with disabilities in a more efficient, cost-effective manner.

Development and Maintenance Activities of the Development Center must include, but are not limited to:

(a) Making recommendations to the Department regarding whether technical updates to the NIMAS are appropriate due to advances in technology and changes in the ANSI/NISO Z39.86 standard; examining issues and making recommendations to the Department related to the development of subsequent versions of the NIMAS that address accessibility needs of a broader range of students with disabilities than the current NIMAS (Version 1.0), including consideration of the principles of universal design; and, subject to the approval of the Department, developing subsequent versions of the NIMAS;

(b) Establishing a NIMAS Committee to provide advice to the grantee on issues related to the grantee's activities, including the issues identified in paragraph (a);

(c) Evaluating the feasibility of adopting a free market distribution model and making recommendations to the Department related to steps it might take to facilitate such an approach;

(d) Maintaining communication and collaboration with the NIMAS Technical Assistance Center; and

(e) Conducting evaluations of specific activities and of the overall impact of the Center's work including whether adoption of the NIMAS standard results in greater and more timely availability of materials. The Center must report its evaluation findings at least annually to the Federal project officer.

Technical Assistance and Dissemination Activities of the Technical Assistance Center must include, but are not limited to:

(a) Developing and implementing a strategic plan of technical assistance to States that have adopted or are considering adoption of NIMAS and other entities involved with the implementation of NIMAS in collaboration with the Regional Resource Centers and the National Center on Technology Innovation;

(b) Maintaining a user-friendly Web site with relevant information and documents in an accessible format;

(c) Maintaining communication and collaboration with other Department funded projects such as the National Center on Technology Innovation, the Technology Implementation Center, the new NIMAS Development Center, the IDEA Partnerships, the Regional Resource Centers, the National Center on Secondary Education and Transition (NCSET), the K-8 Access Center, and other research, demonstration, and technical assistance centers, as appropriate, to coordinate information and dissemination activities related to NIMAS and promote consistent implementation of NIMAS;

(d) Building awareness about NIMAS among States and other relevant organizations;

(e) Establishing a Technical Maintenance Group to define strategies for valid and consistent technical implementation of the standard;

(f) Supporting a timely phase-in of the NIMAS specifications within States; and

(g) Conducting evaluations of specific activities and of the overall impact of the Center's work. The Technical Assistance Center must report its evaluation findings at least annually to the Federal project officer.

Each Center must also:

(a) Meet with the Office of Special Education Programs (OSEP) project officer in the first two months of the project to review and refine the strategic plan of support and dissemination approaches.

(b) Communicate with the Federal project officer through monthly teleconferences and e-mail communication as needed. The Center must submit annual performance reports and provide additional written materials as needed for the Federal project officer to monitor the Center's work.

(c) Budget for a two-day Project Directors' meeting in Washington, DC during each year of the project. In addition to the two-day Project Director's Meeting, each Center must budget for at least two annual planning meetings with Department officials, and at least two, two-day trips annually as requested by OSEP to attend meetings such as Department briefings, Department-sponsored conferences, and other OSEP-requested activities.

Fourth and Fifth Years of Project: If continued need for technical assistance and development exists, the Secretary will consider continuation of the projects for the fourth and fifth years under the requirements of 34 CFR 75.253(a), and in addition—

(a) The recommendation of a review team consisting of experts selected by the Secretary which review will be conducted during the last half of the project's third year in Washington, DC. Projects must budget for the travel associated with this one-day intensive review;

(b) The timeliness and effectiveness with which all requirements of the negotiated cooperative agreement have been or are being met by each Center; and

(c) In the case of the Development Center, the degree to which the project's design and methodology demonstrate the potential for advancing significant new knowledge.

Waiver of Proposed Rulemaking: Under the Administrative Procedure Act (5 U.S.C. 553), the Department generally offers interested parties the opportunity to comment on proposed priorities. However, section 661(e)(2) of IDEA makes the public comment requirements inapplicable to the priority in this notice.

Program Authority: 20 U.S.C. 1485 and 1487.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Cooperative agreements.

Estimated Available Funds: $650,000.

Estimated Average Size of Awards: Development: $400,000; Technical assistance and dissemination: $250,000.

Maximum Award: Development: $400,000; Technical assistance and dissemination: $250,000. We will reject any application that proposes a budget exceeding the maximum award for a single budget period of 12 months. The Assistant Secretary for Special Education and Rehabilitative Services may change the maximum amount through a notice published in the Federal Register.

Estimated Number of Awards: 2.

Note: The Department is not bound by any estimates in this notice.

Project Period: Up to 60 months.

III. Eligibility Information

1. Eligible Applicants: SEAs; LEAs; IHEs; other public agencies; nonprofit private organizations; outlying areas; freely associated States; Indian tribes or tribal organizations; and for-profit organizations.

2. Cost Sharing or Matching: This competition does not involve cost sharing or matching.

3. Other: General Requirements—(a) The projects funded under this competition must make positive efforts to employ and advance in employment qualified individuals with disabilities (see section 606 of IDEA).

(b) Applicants and grant recipients funded under this competition must involve individuals with disabilities or parents of individuals with disabilities in planning, implementing, and evaluating the projects (see section 661(f)(1)(A) of IDEA).

IV. Application and Submission Information

1. Address To Request Application Package: Education Publications Center (ED Pubs), PO Box 1398, Jessup, MD 20794-1398. Telephone (toll free): 1-877-433-7827. FAX: (301) 470-1244. If you use a telecommunications device for the deaf (TDD), you may call (toll free): 1-877-576-7734.

You may also contact ED Pubs at its Web site: www.ed.gov/pubs/edpubs.html or you may contact ED Pubs at its e-mail address: edpubs@inet.ed.gov

If you request an application from ED Pubs, be sure to identify this competition as follows: CFDA number 84.327P.

Individuals with disabilities may obtain a copy of the application package in an alternative format (e.g., Braille, large print, audiotape, or computer diskette) by contacting the Grants and Contracts Services Team listed in section VII of this notice.

2. Content and Form of Application Submission: Requirements concerning the content of an application, together with the forms you must submit, are in the application package for this competition.

Page Limit: The application narrative (Part III of the application) is where you, the applicant, address the selection criteria that reviewers use in evaluating your application. You must limit Part III to the equivalent of no more than 50 pages, using the following standards:

• A “page” is 8.5″ x 11″ on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, the references, the letters of support, or the appendix. However, you must include all of the application narrative in Part III.

We will reject your application if—

• You apply these standards and exceed the page limit; or

• You apply other standards and exceed the equivalent of the page limit.

3. Submission Dates and Times:

Applications Available: August 10, 2004.

Deadline for Transmittal of Applications: September 9, 2004.

We do not consider an application that does not comply with the deadline requirements.

Applications for grants under this competition may be submitted by mail or hand delivery (including a commercial carrier or courier service), or electronically using the Electronic Grant Application System (e-Application) available through the Department's e-GRANTS system. For information (including dates and times) about how to submit your application by mail or hand delivery, or electronically, please refer to Section IV. 6. Procedures for Submitting Applications in this notice.

Deadline for Intergovernmental Review: September 14, 2004.

4. Intergovernmental Review: This program is subject to Executive Order 12372 and the regulations in 34 CFR part 79. Information about Intergovernmental Review of Federal Programs under Executive Order 12372 is in the application package for this competition. However, in order to ensure that these FY 2004 grants are made before September 30, 2004, the 60-day intergovernmental review period has been waived to 5 days.

5. Funding Restrictions: We reference regulations outlining funding restrictions in the Applicable Regulations section of this notice.

6. Procedures for Submitting Applications: Applications for grants under this competition may be submitted electronically or in paper format by mail or hand delivery.

a. Electronic Submission of Applications.

If you submit your application to us electronically, you must use e-Application available through the Department's e-GRANTS system. The e-GRANTS system is accessible through its portal page at: http://e-grants.ed.gov.

If you use e-Application, you will be entering data online while completing your application. You may not e-mail an electronic copy of a grant application to us. The data you enter online will be saved into a database.

If you participate in e-Application, please note the following:

• Your participation is voluntary.

• You must submit your grant application electronically through the Internet using the software provided on the e-Grants Web site (http://e-grants.ed.gov) by 4:30 p.m., Washington, DC time, on the application deadline date. The regular hours of operation of the e-Grants Web site are 6 a.m. Monday until 7 p.m. Wednesday; and 6 a.m. Thursday until midnight Saturday, Washington, DC time. Please note that the system is unavailable on Sundays, and after 7 p.m. on Wednesdays for maintenance, Washington, DC time. Any modifications to these hours are posted on the e-Grants Web site. We strongly recommend that you do not wait until the application deadline date to initiate an e-Application package.

• You will not receive additional point value because you submit your application in electronic format, nor will we penalize you if you submit your application in paper format.

• You must submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The applicant's Authorizing Representative must sign this form.

3. Place the PR/Award number in the upper right-hand corner of the hard copy signature page of the ED 424.

4. Fax the signed ED 424 to the Application Control Center at (202) 245-6272.

• We may request that you give us original signatures on other forms at a later date. Application Deadline Date Extension in Case of System Unavailability: If you are prevented from submitting your application on the application deadline date because the e-Application system is unavailable, we will grant you an extension of one business day in order to transmit your application electronically, by mail, or by hand delivery. We will grant this extension if—

1. You are a registered user of e-Application and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-GRANTS help desk at 1-888-336-8930.

You may access the electronic grant application for the Special Education—Technology and Media Services For Individuals With Disabilities—National Instructional Materials Accessibility Standard competition at: http://e-grants.ed.gov.

b. Submission of Paper Applications by Mail.

If you submit your application in paper format by mail (through the U.S. Postal Service or a commercial carrier), you must send the original and two copies of your application on or before the application deadline date to the following address: U.S. Department of Education, Application Control Center, Attention: (CFDA Number 84.327P), 400 Maryland Avenue, SW., Washington, DC 20202.

You must show proof of mailing consisting of one of the following:

1. A legibly dated U.S. Postal Service Postmark;

2. A legible mail receipt with the date of mailing stamped by the U.S. Postal Service;

3. A dated shipping label, invoice, or receipt from a commercial carrier; or

4. Any other proof of mailing acceptable to the U.S. Secretary of Education.

If you mail your application through the U.S. Postal Service, we do not accept either of the following as proof of mailing:

1. A private metered postmark, or

2. A mail receipt that is not dated by the U.S. Postal Service.

If your application is post marked after the application deadline date, we will notify you that we will not consider the application.

Note: Applicants should note that the U.S. Postal Service does not uniformly provide a dated postmark. Before relying on this method, you should check with your local post office.

c. Submission of Paper Applications by Hand Delivery.

If you submit your application in paper format by hand delivery, you (or a courier service) must deliver the original and two copies of your application on or before the application deadline date to the following address: U.S. Department of Education, Application Control Center, Attention: (CFDA Number 84.327P), 550 12th Street, SW., Room 7041, Potomac Center Plaza, Washington, DC 20202-4260.

The Application Control Center accepts deliveries daily between 8 a.m. and 4:30 p.m., Washington, DC time, except Saturdays, Sundays and Federal holidays. A person delivering an application must show identification to enter the building.

Note for Mail or Hand Delivery of Paper Applications: If you mail or hand deliver your application to the Department:

1. You must indicate on the envelope and—if not provided by the Department—in Item 4 of the Application for Federal Education Assistance (ED 424 (exp. 11/30/2004)) the CFDA number—and suffix letter, if any—of the competition under which you are submitting your application.

2. The Application Control Center will mail a Grant Application Receipt Acknowledgment to you. If you do not receive the notification of application receipt within 15 days from the mailing of your application, you should call the U.S. Department of Education Application Control Center at (202) 245-6288.

V. Application Review Information

Selection Criteria: The selection criteria for this competition are listed in 34 CFR 75.210 of EDGAR. The specific selection criteria to be used for this competition are in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department is currently developing measures that will yield information on various aspects of the quality of the Technology and Media Services for Individuals with Disabilities program (e.g. the extent to which projects are of high quality, are relevant to the needs of children with disabilities, and contribute to improving results for children with disabilities). Data on these measures will be collected from the projects funded under this notice.

Grantees will also be required to report information on their projects' performance in annual reports to the Department (EDGAR, 34 CFR 75.590).

We will notify grantees of the performance measures once they are developed.

VII. Agency Contact

FOR FURTHER INFORMATION CONTACT: Bonnie Jones, U.S. Department of Education, 400 Maryland Avenue, SW., room 4153, Potomac Center Plaza, Washington, DC 20202-2600. Telephone: (202) 245-7395.

If you use a telecommunications device for the deaf (TDD), you may call the Federal Information Relay Service (FIRS) at 1-800-877-8339.

Individuals with disabilities may obtain this document in an alternative format (e.g., Braille, large print, audiotape, or computer diskette) on request by contacting the following office: The Grants and Contracts Services Team, U.S. Department of Education, 400 Maryland Avenue, SW., room 5075, Potomac Center Plaza, Washington, DC 20202-2550. Telephone: (202) 245-7363.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: August 5, 2004.
Troy R. Justesen,
Acting Deputy Assistant Secretary for Special Education and Rehabilitative Services.

[FR Doc. 04-18307 Filed 8-9-04; 8:45 am]

BILLING CODE 4000-01-P